DEPARTMENT OF AGRICULTURE

Agricultural Marketing Service

9 CFR Parts 201, 202, and 203

[Doc. No. AMS-FGIS-18-0073 FR]

Reorganization and Transfer of Regulations; Correction

AGENCY: Agricultural Marketing Service; Farm Service Agency; Grain Inspection, Packers, and Stockyards Administration; USDA.

ACTION: Final rule; correcting amendments.

SUMMARY: The Agricultural Marketing Service is making correcting amendments pertaining to a final rule that appeared in the Federal Register on August 30, 2019. The final rule transferred certain regulations under the Farm Service Agency (FSA) and the Grain Inspection, Packers and Stockyards Administration (GIPSA) to the Agricultural Marketing Service (AMS) to reflect changes in the organizational structure and delegated authorities within the United States Department of Agriculture (USDA). The final rule also made corresponding revisions to the regulations to reflect the organizational changes.

DATES: Effective October 23, 2019.

FOR FURTHER INFORMATION CONTACT: Dawana J. Clark, Legislative and Regulatory Review Staff, Office of the Administrator, AMS, USDA; Telephone: (202) 720-7540, Fax: (202) 690-3767, or Email: Dawana.Clark@usda.gov.

SUPPLEMENTARY INFORMATION: In FR Doc. 2019-18201 appearing on page 45644 in the Federal Register of Friday, August 30, 2019, portions of amendatory instructions to sections in 9 CFR parts 201, 202, and 203 were either incorrect or incomplete.

In an instruction amending § 201.108-1, the section number read in error (§ 201.180-1). When amending paragraph (b) in § 202.2, we neglected to replace “GIPSA” with “AMS.” In amending § 203.7, we cited incorrect language to be changed. And finally, in the amendment to § 203.14, we incorrectly cited § 203.114.

This correcting amendment rule amends 9 CFR 201.108-1, 202.2, 203.7, and 203.14 as intended in the final rule published August 30, 2019, at 84 FR 45644.

List of Subjects

9 CFR Part 201

Confidential business information, Reporting and recordkeeping requirements, Stockyards, Surety bonds, Trade practices.

9 CFR Part 202

Administrative practice and procedure, Stockyards.

9 CFR Part 203

Reporting and recordkeeping requirements, Stockyards.

Accordingly, 9 CFR parts 201, 202, and 203 are amended by making the following correcting amendments:

PART 201—REGULATIONS UNDER THE PACKERS AND STOCKYARDS ACT

1. The authority citation for part 201 continues to read as follows:

Authority: 7 U.S.C. 181-229c.

§ 201.108-1 [Amended]

2. Amend § 201.108-1, in the introductory text, by removing both instances of the words “Packers and Stockyards Programs” and adding in their place “Packers and Stockyards Division”.

PART 202—RULES OF PRACTICE GOVERNING PROCEEDINGS AND UNDER THE PACKERS AND STOCKYARDS ACT

3. The authority citation for part 202 continues to read as follows:

Authority: 7 U.S.C. 181-229c.

§ 202.2 [Amended]

4. In § 202.2, amend paragraph (b) by removing the term “GIPSA” and adding in its place “AMS”.

PART 203—STATEMENTS OF GENERAL POLICY UNDER THE PACKERS AND STOCKYARDS ACT

5. The authority citation for part 203 continues to read as follows:

Authority: 7 U.S.C. 2.22 and 2.81.

§ 203.7 [Amended]

6. Amend § 203.7:

a. In the third sentence of paragraph (b)(2)(iii), by removing the word “area” and adding in its place “regional”.

b. In the fourth sentence of paragraph (b)(2)(iii), by removing the words “the Administration” and adding in their place the term “PSD”.

§ 203.14 [Amended]

7. Amend § 203.14 in the note following paragraph 1 by removing the words “Grain Inspection, Packers and Stockyards Administration (Packers and Stockyards Programs)” and adding in their place “PSD”.

Dated: October 18, 2019.
Bruce Summers,
Administrator, Agricultural Marketing Service.

[FR Doc. 2019-23103 Filed 10-22-19; 8:45 am]

BILLING CODE 3410-02-P